NATIONAL SCIENCE FOUNDATION

Sunshine Act Meetings

The National Science Board hereby gives notice of the scheduling of a teleconference of the Committee on Strategy's Subcommittee on Technology, Innovation and Partnerships for the transaction of National Science Board business pursuant to the NSF Act and the Government in the Sunshine Act.

TIME AND DATE: Monday, November 22, 2021, from 6:00-7:00 p.m. EST.

PLACE: This meeting will be held by teleconference organized through the National Science Foundation.

STATUS: Closed.

MATTERS TO BE CONSIDERED: The agenda is: Subcommittee Chair's Opening Remarks; Approval of Minutes from September 8, 2021, Meeting; and Discussion of Risk as it Relates to NSF's Technology, Innovation, and Partnerships Directorate.

CONTACT PERSON FOR MORE INFORMATION: Point of contact for this meeting is: Chris Blair, cblair@nsf.gov, 703/292-7000. Meeting information and updates may be found at http://www.nsf.gov/nsb/meetings/notices.jsp#sunshine.

Chris Blair,
Executive Assistant to the National Science Board Office.

[FR Doc. 2021-25338 Filed 11-17-21; 11:15 am]

BILLING CODE 7555-01-P